COMMODITY FUTURES TRADING COMMISSION

Agency Information Collection Activities Under OMB Review: Notice of Intent to Renew Collection 3038-0055, Privacy of Consumer Financial Information

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments [if any].

DATES: Comments must be submitted on or before July 22, 2004.

FOR FURTHER INFORMATION CONTACT: Trabue Bland, Division of Clearing and Intermediary Oversight, U.S. Commodity Futures Trading Commission, 1155 21st Street, NW., Washington, DC 20581, (202) 418-5466; FAX: (202) 418-5536; email: tbland@cftc.gov and refer to OMB Control No. 3038-0055.

SUPPLEMENTARY INFORMATION: Title: Privacy of Consumer Financial Information, OMB Control No. 3038-0055. This is a request for extension of a currently approved information collection.

Abstract: Section 124 of the Commodity Futures Modernization Act of 2000 (“CFMA”) amends the Commodity Exchange Act (the “Act”) and adds a new section 5g to the Act to make the Commission a Federal functional regulator for purposes of applying the provisions of Title V, Subtitle A of the Gramm-Leach-Bliley Act (“GLB Act”) addressing consumer privacy to any futures commission merchant, commodity trading advisor, commodity pool operator or introducing broker that is subject to the Commission's jurisdiction with respect to any financial activity. In general, Title V requires financial institutions to provide notice to consumers about the institution's privacy policies and practices, to restrict the ability of a financial institution to share nonpublic personal information about consumers to nonaffiliated third parties, and to permit consumers to prevent the institution from disclosing nonpublic personal information about them to certain non-affiliated third parties by “opting out” of that disclosure. This rule implements the mandates of section 124 and Title V of the GLB Act.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on March 1, 2004 (69 FR 9598-02).

Burden statement: The respondent burden for this collection is estimated to average .27 hours per response. These estimates include the time needed to review instructions; develop, acquire, install, and utilize technology and systems for the purposes of collecting, validating, verifying information, processing and maintaining information and disclosing and providing information; adjust the existing ways to comply with any previously applicable instructions and requirements; train personnel to be able to respond to a collection of information; and transmit or otherwise disclose the information.

Respondents/Affected Entities: 4,128.

Estimates number of responses: 317,414.

Estimated total annual burden on respondents: 85,690 hours.

Frequency of collection: On Occasion.

Send comments regarding the burden estimated or any other aspect of the information collection, including suggestions for reducing the burden, to the addresses listed below. Please refer to OMB Control No. 3038-0055 in any correspondence.

Trabue Bland, Division Of Clearing and Intermediary Oversight, U.S. Commodity Futures Trading Commission, 1155 21st Street, NW., Washington, DC 20581, and Office of Information and Regulatory Affairs, Office of Management and Budget, Attention: Desk Officer for CFTC, 725 17th Street, Washington, DC 20503.

Dated: June 15, 2004.
Jean A. Webb,
Secretary of the Commission.

[FR Doc. 04-14009 Filed 6-21-04; 8:45 am]

BILLING CODE 6351-01-M